DEPARTMENT OF TRANSPORTATION

Federal Aviation Administration

14 CFR Part 39

[Docket No. FAA-2016-9519; Product Identifier 2016-NM-099-AD; Amendment 39-19200; AD 2018-04-05]

RIN 2120-AA64

Airworthiness Directives; Airbus Airplanes

AGENCY: Federal Aviation Administration (FAA), Department of Transportation (DOT).

ACTION: Final rule.

SUMMARY: We are adopting a new airworthiness directive (AD) for certain Airbus Model A319-112, A319-115, A320-214, A320-232, and A321-211 airplanes. This AD was prompted by in-service experience and further analysis, which showed that the galley 5 without kick-load retainers, was unable to withstand the expected loading during several flight phases or in case of emergency landing. This AD requires modification of galley 5 trolley compartments by adding kick-load retainers. We are issuing this AD to address the unsafe condition on these products.

DATES: This AD is effective April 3, 2018.

The Director of the Federal Register approved the incorporation by reference of certain publications listed in this AD as of April 3, 2018.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; internet http://www.airbus.com. You may view this referenced service information at the FAA, Transport Standards Branch, 2200 South 216th Street, Des Moines, WA. For information on the availability of this material at the FAA, call 206-231-3195. It is also available on the internet at http://www.regulations.gov by searching for and locating Docket No. FAA-2016-9519.

Examining the AD Docket

You may examine the AD docket on the internet at http://www.regulations.gov by searching for and locating Docket No. FAA-2016-9519; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th Street, Des Moines, WA 98198; telephone 206-231-3223; fax 206-231-3398.

SUPPLEMENTARY INFORMATION:

Discussion

We issued a supplemental notice of proposed rulemaking (SNPRM) to amend 14 CFR part 39 by adding an AD that would apply to certain Airbus Model A319-112, A319-115, A320-214, A320-232, and A321-211 airplanes. The SNPRM published in the Federal Register on November 9, 2017 (82 FR 52022) (“the SNPRM”). We preceded the SNPRM with a notice of proposed rulemaking (NPRM) that published in the Federal Register on January 3, 2017 (82 FR 50) (“the NPRM”). The NPRM was prompted by in-service experience and further analysis, which showed that the galley 5 without kick-load retainers was unable to withstand the expected loading during several flight phases or in case of an emergency landing. The NPRM proposed to require modification of galley 5 trolley compartments by adding kick-load retainers. The SNPRM proposed to modify the applicability. We are issuing this AD to prevent galley/trolley detachment and collapse into an adjacent cabin aisle or cabin zone, possibly spreading loose galley equipment items, compartment doors, or leaking fluids. These hazards could block an evacuation route and result in injury to crew or passengers.

The European Aviation Safety Agency (EASA), which is the Technical Agent for the Member States of the European Union, has issued EASA Airworthiness Directive 2016-0040, dated March 2, 2016 (referred to after this as the Mandatory Continuing Airworthiness Information, or “the MCAI”), to correct an unsafe condition for certain Airbus Model A319-112, A319-115, A320-214, A320-232, and A321-211 airplanes. The MCAI states:

Following in-service experience and further analyses, it was ascertained that the galley 5 without kick load retainers on external position could not withstand the expected loading during several flight phases or in case of emergency landing.

This condition, if not corrected, could lead to galley/trolley detachment and collapse into an adjacent cabin aisle or cabin zone, possibly spreading loose galley equipment items, compartment doors or leaking fluids, blocking an evacuation route, and consequently resulting in injury to crew or passengers.

To address this potential unsafe condition, Airbus issued 6 Service Bulletins (SB) to provide modification instructions for the affected aeroplanes.

For the reasons described above, this [EASA] AD requires modification of galley 5 trolley compartments to install kick load retainers.

You may examine the MCAI in the AD docket on the internet at http://www.regulations.gov by searching for and locating Docket No. FAA-2016-9519.

Comments

We gave the public the opportunity to participate in developing this AD. The following presents the comments received on the SNPRM and the FAA's response to each comment.

Request To Change the Applicability To Be Based on Galley 5 Part and Serial Number

Etihad Airways (Etihad) requested that the applicability of the proposed AD (in the SNPRM) be changed to list specific galley 5 part numbers and serial numbers. Etihad noted that the same galley 5 part number installed on the airplanes listed in the applicability of the proposed AD (in the SNPRM) was also installed on certain Model A320-232 airplanes under supplemental type certificates (STCs). Etihad noted that the proposed change would help to ensure all affected parts are addressed.

We disagree with the commenter's request. We appreciate Etihad's initiative in attempting to address the unsafe condition on their fleet, including airplanes modified by STCs or other approved installation methods. However, making the requested change would require us to issue another supplemental NPRM, delaying the issuance of a final rule. To delay this action would be inappropriate, since we have determined that an unsafe condition exists and that galley modifications must be made to ensure continued safety. We will consider additional rulemaking to address airplanes modified by STCs. We have not changed this AD in this regard.

Conclusion

We reviewed the relevant data, considered the comment received, and determined that air safety and the public interest require adopting this AD as proposed except for minor editorial changes. We have determined that these minor changes:

• Are consistent with the intent that was proposed in the SNPRM for correcting the unsafe condition; and

• Do not add any additional burden upon the public than was already proposed in the SNPRM.

Related Service Information Under 1 CFR Part 51

Airbus has issued Service Bulletin A320-25-1B29, dated June 19, 2014; and Service Bulletin A320-25-1B30, dated June 19, 2014. This service information describes procedures for installing kick-load retainers on certain galley 5 trolley compartments. These documents are distinct since they apply to different airplane configurations. This service information is reasonably available because the interested parties have access to it through their normal course of business or by the means identified in the ADDRESSES section.

Costs of Compliance

We estimate that this AD affects 19 airplanes of U.S. registry.

We estimate the following costs to comply with this AD:

Estimated Costs
Action | Labor cost | Parts cost | Cost per product | Cost on U.S. operators
Modification | 2 work-hours × $85 per hour = $170 | $0 | $170 | $3,230

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-04-05 Airbus: Amendment 39-19200; Docket No. FAA-2016-9519; Product Identifier 2016-NM-099-AD.

(a) Effective Date

This AD is effective April 3, 2018.

(b) Affected ADs

None.

(c) Applicability

This AD applies to Airbus Model A319-112, A319-115, A320-214, A320-232, and A321-211 airplanes, certificated in any category, manufacturer's serial numbers 1479, 3096, 3693, 3713, 3739, 3791, 3896, 3902, 3907, 3931, 3949, 3969, 4030, 4045, 4049, 4059, 4066, 4077, 4083, 4124, 4146, 4158, 4188, 4198, 4206, 4209, 4218, 4235, 4255, 4264, 4304, 4321, 4371, 4374, 4395, 4411, 4417, 4431, 4485, 4492, 4502, 4528, 4541, 4548, 4592, 4595, 4638, 4651, 4669, 4703, 4724, 4737, 4746, 4770, 4780, 4783, 4826, 4827, 4860, 4863, 4865, 4902, 4934, 4945, 4951, 4952, 4971, 4996, 5023, 5029, 5042, 5088, 5095, 5132, 5159, 5164, 5171, 5175, 5192, 5210, 5227, 5241, 5247, 5251, 5275, 5277, 5297, 5306, 5340, 5343, 5348, 5356, 5366, 5370, 5385, 5387, 5392, 5396, 5400, 5407, 5418, 5427, 5438, 5456, 5458, 5469, 5495, 5517, 5555, 5624, 5674, 5678, 5698, 5699, 5704, 5709, 5714, 5791, 5745, 5753, 5761, 5781, 5786, 5788, 5789, 5798, 5804, 5810, 5821, 5827, 5842, 5874, 5882, 5889, 5903, 5907, 5916, 5924, 5958, 5984, 5994, 6000, 6004, 6054, 6080, 6107, 6166, 6176, 6234, 6266, 6293, 6335, 6344, 6365, 6430, and 6444.

(d) Subject

Air Transport Association (ATA) of America Code 25, Equipment/furnishings.

(e) Reason

This AD was prompted by in-service experience and further analysis, which showed that the galley 5 without kick-load retainers was unable to withstand the expected loading during several flight phases or in case of emergency landing. We are issuing this AD to prevent galley/trolley detachment and collapse into an adjacent cabin aisle or cabin zone, possibly spreading loose galley equipment items, compartment doors, or leaking fluids. These hazards could block an evacuation route and result in injury to crew or passengers.

(f) Compliance

Comply with this AD within the compliance times specified, unless already done.

(g) Install Kick-Load Retainers

Within 12 months after the effective date of this AD, install kick-load retainers on the galley 5 trolley compartments as specified in paragraph (g)(1), (g)(2), or (g)(3) of this AD, as applicable. For airplanes on which galley 5 is not installed, no action is required by this paragraph.

(1) For Airbus Model A319-115 airplanes, manufacturer's serial numbers 5678, 5698, 5704, 5745, 5753, 5761, 5781, 5786, 5788, 5789, 5798, 5810, 5827, and 5842, do the installation in accordance with the Accomplishment Instructions of Airbus Service Bulletin A320-25-1B29, dated June 19, 2014.

(2) For Airbus Model A320-232 airplanes, manufacturer's serial numbers 5458, 5517, 5624, and 5804, do the installation in accordance with the Accomplishment Instructions of Airbus Service Bulletin A320-25-1B30, dated June 19, 2014.

(3) For airplanes not identified in paragraph (g)(1) or (g)(2) of this AD, do the installation using a method approved by the Manager, International Section, Transport Standards Branch, FAA; or the European Aviation Safety Agency (EASA); or Airbus's EASA Design Organization Approval (DOA). If approved by the DOA, the approval must include the DOA-authorized signature

(h) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA Design Organization Approval (DOA). If approved by the DOA, the approval must include the DOA-authorized signature.

(i) Related Information

(1) Refer to Mandatory Continuing Airworthiness Information (MCAI) EASA Airworthiness Directive 2016-0040, dated March 2, 2016, for related information. This MCAI may be found in the AD docket on the internet at http://www.regulations.gov by searching for and locating Docket No. FAA-2016-9519.

(2) For more information about this AD, contact Sanjay Ralhan, Aerospace Engineer, International Section, Transport Standards Branch, FAA, 2200 South 216th Street, Des Moines, WA 98198; telephone 206-231-3223; fax 206-231-3398.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-25-1B29, dated June 19, 2014.

(ii) Airbus Service Bulletin A320-25-1B30, dated June 19, 2014.

(3) For service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com.

(4) You may view this service information at the FAA, Transport Standards Branch, 2200 South 216th Street, Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on February 9, 2018.
Michael Kaszycki,
Acting Director, System Oversight Division, Aircraft Certification Service.

[FR Doc. 2018-03495 Filed 2-26-18; 8:45 am]

BILLING CODE 4910-13-P